DEPARTMENT OF THE TREASURY

Internal Revenue Service

Low Income Taxpayer Clinic Grant Program; Availability of 2005 Grant Application Package

AGENCY: Internal Revenue Service (IRS), Treasury.

ACTION: Notice.

SUMMARY: This document contains a Notice that the IRS has made available the grant application package (Publication 3319) for parties interested in applying for a Low Income Taxpayer Clinic Grant for the 2005 grant cycle. The IRS will award a total of up to $6,000,000 (unless otherwise provided by specific Congressional appropriation) to qualifying organizations.

DATES: Grant applications for the 2005 grant cycle must be received by the IRS (not postmarked) by July 1, 2004. Applications may be transmitted by mail or electronically.

ADDRESSES: Send completed grant applications to: Internal Revenue Service, Taxpayer Advocate Service, LITC Program Office Mail Stop 211-D, 401 W. Peachtree St., NW., Atlanta, GA 30308. To transmit an application electronically, go to www.grants.gov. Copies of the grant application package (IRS Publication 3319) can be downloaded from the IRS Internet site at www.irs.gov/advocate or ordered by calling 1-800-829-3676.

FOR FURTHER INFORMATION CONTACT: The LITC Program Office at 404-338-7185 (not a toll-free number) or by email at LITCProgramOffice@irs.gov.

SUPPLEMENTARY INFORMATION:

Background

Section 7526 of the Internal Revenue Code authorizes the IRS, subject to the availability of appropriated funds, to award organizations matching grants of up to $100,000 for the development, expansion, or continuation of qualified low income taxpayer clinics. Section 7526 authorizes the IRS to provide grants to qualified organizations that represent low income taxpayers in controversies with the IRS and/or inform individuals for whom English is a second language of their tax rights and responsibilities. The IRS may award grants to qualifying organizations to fund one-year, two-year or three-year project periods.

The 2005 LITC Application Package and Guidelines, Publication 3319, includes several changes that are being implemented to improve IRS's involvement with the technical components of the LITC Program. Among the changes, IRS has established work groups, clarified the comprehensive program standards, improved communications, and increased the emphasis on education and outreach programs to taxpayers for whom English is a second language.

The costs of preparing and submitting an application are the responsibility of each applicant. Each application will be given due consideration and the LITC Program Office will mail notification letters to each applicant.

Selection Considerations

Applications that pass the eligibility screening process will be numerically ranked based on the information contained in their proposed program plan. Please note that the IRS Volunteer Income Tax Assistance (VITA) Program is a separate and distinct program from the LITC grant program. Organizations currently participating in the VITA Program may be eligible to apply for a LITC grant if they meet the criteria and qualifications outlined in the LITC Grant Application Package & Guidelines (Publication 3319). Organizations that seek to operate both VITA and LITC programs must maintain separate and distinct programs to ensure proper cost allocation for LITC grant funds and adherence to both VITA and LITC program rules and regulations. In addition to the criteria and qualifications outlined in the LITC Grant Application Package and Guidelines, to foster parity regarding clinic availability and accessibility for taxpayers nationwide, the IRS will consider the geographic area of applicants as part of the decision making process. The IRS will also seek to attain a proper balance of academic and non-profit organizations as well as a proper balance of start-up and existing clinics.

Comments

Interested parties are encouraged to provide comments on the IRS's administration of the grant program on an ongoing basis. Comments may be sent to Internal Revenue Service, Taxpayer Advocate Service, LITC Program Office Mail Stop 211-D, 401 W. Peachtree Street, NW., Atlanta, GA 30308.

Dated: April 9, 2004.
Nina E. Olson,
National Taxpayer Advocate, Internal Revenue Service.

[FR Doc. 04-9739 Filed 4-30-04; 8:45 am]

BILLING CODE 4830-01-P